DEPARTMENT OF HOMELAND SECURITY

Federal Emergency Management Agency

[Docket ID: FEMA-2014-0008; OMB No. 1660-0129]

Agency Information Collection Activities: Submission for OMB Review; Comment Request, Federal Emergency Management Agency Individual Assistance Survivor Centric Customer Satisfaction Surveys (Formerly, Follow-Up Program Effectiveness & Recovery Survey)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 2, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472, facsimile number (202) 212-4701, or email address FEMA-Information-Collections-Management@dhs.gov.

SUPPLEMENTARY INFORMATION:

Changes Since Publication of the 60 Day Federal Register Notice for the Federal Emergency Management Agency Individual Assistance Survivor Centric Customer Satisfaction Surveys (Formerly, Follow-Up Program Effectiveness & Recovery Survey

The number of respondents and the estimated burden hours have increased since FEMA published the the 60 day Federal Register Notice on February 28, 2014. See 79 FR 11456. This is due to an increase in the number of times the surveys are conducted from quarterly to approximately six times per year, the addition of focus groups, and additional questions covering survey topics whose answers will provide timely customer satisfaction results and benefit the divisions and offices managing FEMA's Individual Assistance programs. The respondent burden increased from 1,536 to 2,832, for an increase of 1,296 respondents. The burden hours increased from 307 to 1,545, for an increase of 1,238 hours. The annual cost has incrased from $0.00 to $8,604 for travel to focus groups.

Collection of Information

Title: Federal Emergency Management Agency Individual Assistance Survivor Centric Customer Satisfaction Surveys (formerly, Follow-Up Program Effectiveness & Recovery Survey).

Type of information collection: Revision of a currently approved collection.

Form Titles and Numbers: FEMA Form 007-0-14, and Federal Emergency Management Agency Individual Assistance Survivor Centric Customer Satisfaction Surveys.

Abstract: Federal agencies are required to survey their customers to determine the kind and quality of services customers want and their level of satisfaction with those services. FEMA managers use the survey results to measure performance against standards for performance and customer service, measure achievement of strategic planning objectives, and generally gauge and make improvements to disaster service that increase customer satisfaction.

Affected Public: Individuals and Households.

Estimated Number of Respondents: 2,832.

Estimated Total Annual Burden Hours: 1,545.

Estimated Cost: $8,604.00.

Dated: July 17, 2014
Charlene D. Myrthil,
Director, Records Management Division, Mission Support Bureau, Federal Emergency Management Agency, Department of Homeland Security.

[FR Doc. 2014-18258 Filed 7-31-14; 8:45 am]

BILLING CODE 9111-23-P